DEPARTMENT OF ENERGY

Federal Energy Regulatory Commission

[Docket No. EL02-129-000]

Southern California Water Company; Notice of Filing

February 19, 2004.

Take notice that on November 19, 2002, Southern California Water Company (SCWC) tendered for filing a resubmission of an SCWC compliance filing initially filed on November 12, 2002. SCWC states that the resubmission does not contain any confidential or otherwise protected materials. SCWC explains that its November 12, 2002, filing may have contained confidential or otherwise protected materials that should not be available for public inspections. Therefore, SCWC requests that the Commission remove the original version from the eLibrary system and the Public Reference Room.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: March 5, 2004.

Magalie R. Salas,
Secretary.

[FR Doc. E4-392 Filed 2-25-04; 8:45 am]

BILLING CODE 6717-01-P